NEIGHBORHOOD REINVESTMENT CORPORATION

Sunshine Act Meetings

TIME AND DATE: 3:30 p.m., Friday, March 22, 2024.

PLACE: Video Conference Call/Zoom.

STATUS: This meeting will be open to the public.

MATTERS TO BE CONSIDERED:

• Special Board of Directors Meeting

Agenda

I. Call to Order

II. Action Item: Election of Governor Cook as Board Chair

III. Discussion Item: FY2024 Budget

IV. Discussion Item: Appropriation Update

V. Adjournment

CONTACT PERSON FOR MORE INFORMATION: Jenna Sylvester, Paralegal, (202) 568-2560; jsylvester@nw.org.

Jenna Sylvester,
Paralegal.

[FR Doc. 2024-05823 Filed 3-15-24; 11:15 am]

BILLING CODE 7570-01-P